SECURITIES AND EXCHANGE COMMISSION

[Release No. 34-44392; File No. SR-CHX-2001-12]

Self-Regulatory Organizations; Notice of Filing and Immediate Effectiveness of Proposed Rule Change by the Chicago Stock Exchange, Inc. Amending Its Membership Dues and Fees Schedule

June 6, 2001.

Pursuant to Section 19(b)(1) of the Securities Exchange Act of 1934 (“Act”),¹ and Rule 19b-4 thereunder,² notice is hereby given that on May 24, 2001, the Chicago Stock Exchange, Inc. (“CHX” or “Exchange”) filed with the Securities and Exchange Commission (“SEC” or “Commission”) the proposed rule change as described in Items, I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The CHX proposes to amend its membership dues and fees schedule (the “Schedule”), effective June 1, 2001, to begin rebilling member firms for execution quality reports prepared by third parties pursuant to Rule 11 Ac1-5 ³ (the “Rule”) under the Act and to increase the earned credits available through the specialist credit program. Below is the text of the proposed rule change; proposed additions are italicized and proposed deletions are [bracketed].

³ 17 CFR 240.11 Ac1-5.

* * * * *

MEMBERSHIP DUES AND FEES

* * * * *

H. Equipment, Information Services and Technology Charges

* * * * *

Execution quality reports prepared by third parties

Rebilled at cost.

* * * * *

M. Credits

1. Specialist Credits

Total monthly fees owed by a specialist to the Exchange will be reduced (and specialists will be paid each month for any unused credits [but to no less than zero]) by the application of the following credits:

* * * * *

II. Self-Regulatory Organization's Statement of the Purpose of, and Statutory Basis for, the Proposed Rule Change

In its filing with the Commission, the CHX included statements concerning the purpose of, and basis for, the proposed rule change and discussed any comments it received on the proposed rule change. The text of these statements may be examined at the places specified in Item IV below. The CHX has prepared summaries, set forth in Sections A, B, and C below, of the most significant aspects of such statements.

A. Self-Regulatory Organization's Statement of the Purpose of, and Statutory Basis for, the Proposed Rule Change

1. Purpose

The proposed rule change amends the Schedule in two ways. First, the proposal would assess a new fee that reimburses the Exchange for its cost in procuring execution quality reports pursuant to the Rule ⁴ that are prepared by third parties. The Exchange currently is compiling and making public, at no cost to its member firms, the data required by the Rule. From time to time, however, the Exchange contracts with third parties to provide separate execution quality reports for its member firms. Through this proposal, the Exchange proposes to pass the cost of these reports on to the members that receive them.

⁴ Generally, the Rule seeks to improve the ability of public investors to evaluate how their orders are handled after being submitted to a broker-dealer for execution. The Rule requires market centers that trade national market system securities to prepare and make publicly available standardized, monthly reports containing statistical information concerning the handling and execution of their covered orders. To facilitate cross-market comparisons, the Rule established and defines uniform measures to execution quality, including effective spread, rate of price improvement and disimprovement, fill rate, and execution speed.

Second, the proposed rule change would revise the specialist credit program to provide that the Exchange will pay specialists for any unused credits that they earn each month. The CHX represents that this credit program is designed to stimulate growth on the Exchange, exchange the competitive capability of specialist firms, and foster cooperation on the Exchange's trading floor by rewarding specialists for their work to increase Exchange revenue.

2. Statutory Basis

The CHX believes that the proposed rule change is consistent with Section 6(b)(4) of the Act ⁵ in that it provides for the equitable allocation of reasonable dues, fees and other charges among its members.

⁵ 15 U.S.C. 78f(b)(4).

B. Self-Regulatory Organization's Statement on Burden on Competition

The Exchange does not believe that the proposed rule change will impose any burden on competition that is not necessary or appropriate in furtherance of the purpose of the Act.

C. Self-Regulatory Organization's Statement on Comments on the Proposed Rule Change Received from Members, Participants, or Others

The Exchange did not solicit or receive written comments on the proposed rule change.

III. Date of Effectiveness of the Proposed Rule Change and Timing for Commission Action

The proposed rule change has become effective pursuant to Section 19(b)(3)(A)(ii) of the Act,⁶ and Rule 19b-4(f)(2) thereunder,⁷ in that it establishes or changes a due, fee, or other charge. At any time within 60 days of the filing of such proposed rule change, the Commission may summarily abrogate such rule change if it appears to the Commission that such action is necessary or appropriate in the public interest, for the protection of investors, or otherwise in furtherance of the purposes of the Act.

⁶ 15 U.S.C. 78s(b)(3)(A)(ii).

⁷ 17 CFT 240.19b-4(f)(2).

IV. Solicitation of Comments

Interested persons are invited to submit written data, views, and arguments concerning for foregoing, including whether the proposed rule change is consistent with the Act. Persons making written submissions should file six copies thereof with the Secretary, Securities and Exchange Commission, 450 Fifth Street, NW., Washington DC 20549-0609. Copies of the submission, all subsequent amendments, all written statements with respect to the proposed rule change that are filed with the Commission, and all written communications relating to the proposed rule change between the Commission and any person, other than those that may be withheld from the public in accordance with the provisions of 5 U.S.C. 552, will be available for inspection and copying at the Commission's Public Reference Room. Copies of such filing will also be available for inspection and copying at the principal office of the CHX. All submissions should refer to File No. SR-CHX-2001-12 and should be submitted by July 5, 2001.

For the Commission, by the Division of Market Regulation, pursuant to delegated authority.⁸

⁸ 17 CFR 200.30-3(a)(12)

Margaret H. McFarland,
Deputy Secretary.

[FR Doc. 01-14873 Filed 6-12-01; 8:45 am]

BILLING CODE 8010-01-M